NATIONAL SCIENCE FOUNDATION

Notice of Permit Applications Received Under the Antarctic Conservation Act of 1978.

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 19, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details:

Permit Application: 2015-015

1. Applicant: Dr. Joseph A Covi, University of North Carolina at Wilmington, Biological and Marine Biological Department, Wilmington, NC 28403.

Activity for Which Permit Is Requested

ASPA entry. Applicant desires to collect sediment samples from lakes, ephemeral ponds, and terrestrial slopes in the ASPAS, to assess the presence and potential origin of anthropogenic chemicals in lake and ephemeral pond sediments. Up to 54 samples of lake sediment, 54-108 samples of ephemeral pond sediment, and 54 samples of terrestrial sediment would be taken. Sediment disturbance would be limited to 15x15cm and 2.5cm in depth for lake and dry sediments. If ice cover allows traversing across a lake, samples taken through ice holes would be 30cm deep and 6cm in diameter.

Location

King George Island ASPAs 132 (Potter Peninsula), 150 (Ardley Island), and 171 (Narebski Point, Barton Peninsula).

Dates

February 1, 2015-March 1, 2016.

Nadene G. Kennedy,
Polar Coordination Specialist, Division of Polar Programs.

[FR Doc. 2014-27363 Filed 11-18-14; 8:45 am]

BILLING CODE 7555-01-P